DEPARTMENT OF THE TREASURY

Submission for OMB Review; Comment Request

May 3, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 11, 2001 to be assured of consideration.

Internal Revenue Service (IRS)

OMB Number: 1545-0134.

Form Number: IRS Form 1128.

Type of Review: Extension.

Title: Application to Adopt, Change, or Retain a Tax Year.

Description: Form 1128 is needed in order to process taxpayers' requests to change their tax year. All information requested is used to determine whether the application should be approved. Respondents are taxable and nontaxable entities including individuals, partnerships, corporations, estates, tax-exempt organizations and cooperatives.

Respondents: Business or other for-profit, Individuals or households, Not-for-profit institutions, Farms.

Estimated Number of Respondents/Recordkeepers: 11,800.

Estimated Burden Hours Per Respondent/Recordkeeper:

Form | Recordkeeping | Learning about the law or the form | Preparing, copying, assembling and sending the forms to the IRS
Form 1128, Parts I and II | 8 hr., 36 min | 6 hr., 34 min | 6 hr., 59 min.
Form 1128, Parts I and III | 20 hr., 48 min | 5 hr., 25 min | 7 hr., 12 min.

Frequency of Response: On occasion.

Estimated Total Reporting/Recordkeeping Burden: 361,720 hours.

OMB Number: 1545-0200.

Form Number: IRS Form 5307.

Type of Review: Extension.

Title: Application for Determination for Adopters of Master or Prototype, Regional Prototype or Volume Submitter Plans.

Description: This form is filed by employers or plan administrators who have adopted a master or prototype plan approved by the IRS National Office or regional prototype plan approved by the IRS District Director to obtain a ruling that the plan adopted is qualified under Internal Revenue Code (IRC) sections 401(a) and 501(a). It may not be used to request a letter for multiple employer plan.

Respondents: Business or other for-profit.

Estimated Number of Respondents/Recordkeepers: 39,000.

Estimated Burden Hours Per Respondent/Recordkeeper:

Recordkeeping—5 hr., 15 min.

Learning about the law or the form—4 hr., 9 min.

Preparing the form—8 hr., 9 min.

Copying, assembling, and sending the form to the IRS—1 hr., 4 min.

Frequency of Response: On occasion.

Estimated Total Reporting/Recordkeeping Burden: 726,570 hours.

OMB Number: 1545-0704.

Form Number: IRS Form 5471 and Related Schedules.

Type of Review: Extension.

Title: Information Return of U.S. Persons with Respect to Certain Foreign Corporations.

Description: Form 5471 and related schedules are used by U.S. persons that have an interest in a foreign corporation. The form is used to report income from the foreign corporation. The form and schedules are used to satisfy the reporting requirements of sections 6035, 6038 and the regulations thereunder pertaining to the involvement of U.S. persons with certain foreign corporations.

Respondents: Business or other for-profit, Individuals or households.

Estimated Number of Respondents/Recordkeepers: 43,000.

Estimated Burden Hours Per Respondent/Recordkeeper:

Form/schedule | Recordkeeping | Learning about the law or the form | Preparing, copying, assembling and sending the form to the IRS
5471 | 82 hr., 45 min | 15 hr., 50 min | 23 hr., 53 min.
Schedule J (5471) | 3 hr., 49 min | 1 hr., 29 min | 1 hr., 37 min.
Schedule M (5471) | 26 hr., 33 min | 6 min | 32 min.
Schedule N (5471) | 8 hr., 22 min | 2 hr., 28 min | 2 hr., 43 min.
Schedule O (5471) | 10 hr., 45 min | 24 min | 35 min.

Frequency of Response: Annually.

Estimated Total Reporting/Recordkeeping Burden: 6,665,205 hours.

OMB Number: 1545-0954.

Form Number: IRS Form 1120-ND.

Type of Review: Extension.

Title: Return for Nuclear Decommissioning Funds and Certain Related Persons.

Description: A nuclear utility files Form 1120-ND to report the income and taxes of a fund set up by the public utility to provide cash for dismantling of the nuclear power plant. The IRS uses Form 1120-ND to determine if the fund income taxes are correctly computed and if a person related to the fund or the nuclear utility must pay taxes on self-dealing.

Respondents: Business or other for-profit.

Estimated Number of Respondents/Recordkeepers: 100.

Estimated Burden Hours Per Respondent/Recordkeeper:

Recordkeeping—23 hr., 12 min.

Learning about the law or the form—3 hr., 7 min.

Preparing the form—5 hr., 30 min.

Copying, assembling, and sending the form to the IRS—32 min.

Frequency of Response: Annually.

Estimated Total Reporting/Recordkeeping Burden: 3,235 hours.

OMB Number: 1545-1038.

Form Number: IRS Form 8703.

Type of Review: Extension.

Title: Annual Certification of a Residential Rental Project.

Description: Operators of qualified residential projects will use to certify annually that their projects meet the requirements of Internal Revenue Code (IRC) section 142(d). Operators are required to file this certification under section 142(d)(7).

Respondents: Business or other for-profit.

Estimated Number of Respondents/Recordkeepers: 6,000.

Estimated Burden Hours Per Respondent/Recordkeeper:

Recordkeeping—3 hr., 49 min.

Learning about the law or the form—1 hr., 17 min.

Preparing and sending the form to the IRS—1 hr., 24 min.

Frequency of Response: Annually.

Estimated Total Reporting/Recordkeeping Burden: 39,180 hours.

OMB Number: 1545-1189.

Form Number: IRS Form 8819.

Type of Review: Extension.

Title: Dollar Election Under Section 985.

Description: Form 8819 is filed by U.S. and foreign businesses to elect the U.S. dollar as their functional currency or as the functional currency of their controlled entities. The IRS uses Form 8819 to determine if the election is properly made.

Respondents: Business or other for-profit.

Estimated Number of Respondents/Recordkeepers: 1,500.

Estimated Burden Hours Per Respondent/Recordkeeper:

Recordkeeping—2 hr., 52 min.

Learning about the law or the form—1 hr., 17 min.

Preparing and sending the form to the IRS—1 hr., 23 min.

Frequency of Response: On occasion.

Estimated Total Reporting/Recordkeeping Burden: 8,340 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports, Management Officer.

[FR Doc. 01-11822 Filed 5-9-01; 8:45 am]

BILLING CODE 4830-01-P